DEPARTMENT OF HEALTH AND HUMAN SERVICES

Centers for Medicare & Medicaid Services

[Document Identifiers: CMS-2552-10 and CMS-10416]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by July 22, 2022.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at website address at: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: Hospital and Health Health Care Complex Cost Report; Use: CMS requires the Form CMS-2552-10 to determine a hospital's reasonable cost incurred in furnishing medical services to Medicare beneficiaries and calculate the hospital reimbursement. Hospitals paid under a prospective payment system (PPS) may receive reimbursement in addition to the PPS for hospital-specific adjustments such as Medicare reimbursable bad debts, disproportionate share, uncompensated care, direct and indirect medical education costs, and organ acquisition costs. CMS uses the Form CMS-2552-10 for rate setting; payment refinement activities, including developing a hospital market basket; and Medicare Trust Fund projections; and to support program operations. Additionally, the Medicare Payment Advisory Commission (MedPAC) uses the hospital cost report data to calculate Medicare margins (a measure of the relationship between Medicare's payments and providers' Medicare costs) and analyze data to formulate Medicare Program recommendations to Congress.

This submission seeks to reinstate the information collection request. The changes in burden and cost for the Form CMS-2552-10 are a result of the following three factors.

• The number of respondents decreased by 13 (from 6,088 in 2018 to 6,075 in 2022), which is the net result of new hospitals certified to participate in the Medicare program and existing hospitals terminated from the Medicare program;

• The hourly rates and associated administrative/overhead costs increased based on data from the BLS 2021 Occupation Outlook Handbook (for categories 43-3031, bookkeeping, accounting and auditing clerks, and 13-2011, accounting and audit professionals) that resulted in an increased cost per provider from $31,411.36 in 2018 to $34,367.18 in 2022; and,

• The per-respondent burden increased by 1 hour (from 673 hours in 2018 to 674 hours in 2022), the result of adding the Worksheet S-10, Part II, for hospitals to report the hospital uncompensated and indigent care data for the hospital CCN, and adding the Worksheet D-6, Parts I, II, and III, for hospitals to report the acquisition cost of allogeneic hematopoietic stem cells for transplant.

Form Number: CMS-2552-10 (OMB control number: 0938-0050); Frequency: Occasionally; Affected Public: Private Sector; Business or other for-profit and not-for-profit institutions; Number of Respondents: 6,075; Total Annual Responses: 6,075; Total Annual Hours: 4,094,550. (For policy questions regarding this collection contact Gail Duncan at 410-786-7278.)

2. Type of Information Collection Request: Extension of a currently approved collection; Title of Information Collection: Blueprint for Approval of State-based Exchange; Use: The Patient Protection and Affordable Care Act (ACA) and its implementing regulations provide states with flexibility in the design and operation of Exchanges to ensure states are implementing Exchanges that best meet the needs of their consumers. States can choose to establish and operate a State-based Exchange (SBE) or a State-based Exchange on the Federal Platform (SBE-FP). To ensure a state can operate a successful and compliant SBE or SBE-FP, it is critical that states provide CMS with a complete and thorough Exchange Blueprint Application, Declaration of Intent Letter, and attest to demonstrate operational readiness. The information collected from states will be used by CMS, IRS, SSA and reviewed by other Federal agencies to determine if a state can implement a complete and fully operational Exchange. Form Number: CMS-10416 (OMB control number: 0938-1172); Frequency: Annually; Affected Public: State, Local, or Tribal governments; Number of Respondents: 4; Total Annual Responses: 21; Total Annual Hours: 126. (For policy questions regarding this collection contact Shilpa Gogna at 301-492-4257.)

Dated: June 15, 2022.
William N. Parham III,
Director, Paperwork Reduction Staff, Office of Strategic Operations and Regulatory Affairs.

[FR Doc. 2022-13278 Filed 6-21-22; 8:45 am]

BILLING CODE 4120-01-P